DEPARTMENT OF LABOR

Employment and Training Administration

[TA-W-51, 243]

Alcatel USA Marketing, Inc., Jupiter 1, Plano, TX; Notice of Termination of Investigation

Pursuant to Section 221 of the Trade Act of 1974, as amended, an investigation was initiated on March 20, 2003 in response to a petition filed on behalf of workers at Alcatel USA Marketing, Inc., Jupiter 1, Plano, Texas.

The petitioning worker group is covered by an active certification issued on March 7, 2003 and remains in effect (TA-W-50,158). Consequently, further investigation in this case would serve no purpose, and the investigation has been terminated.

Signed at Washington, DC this 16th day of April, 2003.
Linda G. Poole,
Certifying Officer, Division of Trade Adjustment Assistance.

[FR Doc. 03-10343 Filed 4-25-03; 8:45 am]

BILLING CODE 4510-30-U